DEPARTMENT OF THE TREASURY

Submission for OMB Review; Comment Request

August 14, 2007.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before September 21, 2007 to be assured of consideration.

Internal Revenue Service (IRS)

OMB Number: 1545-0051.

Type of Review: Extension.

Title: Farmers' Cooperative Association Income Tax Return.

Form: 990-C.

Description: Form 990-C is used by farmers' cooperatives to report the tax imposed by Internal Revenue Code section 1381. The IRS uses the information on the form to determine whether the cooperative has correctly computed and reported its income tax liability.

Respondents: Businesses and other for-profits.

Estimated Total Burden Hours: 856,912 hours.

OMB Number: 1545-1141.

Type of Review: Extension.

Title: Notice 89-102, Treatment of Acquisition of Certain Financial Institutions; Tax Consequences of Federal Financial Assistance.

Description: Section 597 of the Internal Revenue Code provides that the Secretary provide guidance concerning the tax consequences of Federal financial assistance received by qualifying institutions. These institutions may defer payment of Federal income tax attributable to the assistance. Required information identifies deferred tax liabilities.

Respondents: Businesses and other for-profits.

Estimated Total Burden Hours: 125 hours.

OMB Number: 1545-1355.

Type of Review: Extension.

Title: REG-208985-89 (formerly INTL-848-89) (NPRM) Taxable Year of Certain Foreign Corporations Beginning After July 10, 1989.

Description: Proposed regulations set forth the ``required year'' for ``specified foreign corporations'' for taxable years beginning after July 10, 1989, and give guidance on which foreign corporations must change their taxable year and how to effect the change in taxable year. Specified foreign corporations must conform to the required year and must state so on Form 5471.

Respondents: Businesses and other for-profits.

Estimated Total Burden Hours: 700 hours.

OMB Number: 1545-1621.

Type of Review: Extension.

Title: W-8BEN, Certificate of Foreign Status of Beneficial Owner for United States Tax Withholding, W-8ECI, Certificate of Foreign Person's Claim for Exemption From Withholding on Income.

Form: W-8BEN, W-8ECI, W-8EXP, W-8IMY.

Description: Form W-8BEN is used for certain types of income to establish that the person is a foreign person, is the beneficial owner of the income for which Form W-8BEN is being provided and, if applicable, to claim a reduced rate of, or exemption from, withholding as a resident of a foreign country with which the United States has an income tax treaty. Form W-8ECI is used to establish that the person is a foreign person, is the beneficial owner of the income for which Form W-8ECI is being provided, and to claim that the income is effectively connected with the conduct of a trade or business within the United States.

Respondents: Businesses and other for-profits.

Estimated Total Burden Hours: 43,280,135 hours.

OMB Number: 1545-1142.

Type of Review: Extension.

Title: INTL-939-86 (NPRM) Insurance Income of a Controlled Foreign Corporation for Taxable Years Beginning After December 31, 1986.

Description: The information is required to determine the location of moveable property; allocate income and deductions to the proper category of insurance income, determine those amounts for computing taxable income that are derived from an insurance company annual statement, and permit a CFC to elect to treat related person insurance income as income effectively connected with the conduct of a U.S. trade or business. The respondents will be businesses or other for-profit institutions.

Respondents: Businesses and other for-profits.

Estimated Total Burden Hours: 14,100 hours.

OMB Number: 1545-1886.

Type of Review: Extension.

Title: Revenue procedure 2004-35, Late Spousal S Corp Consents in Community Property States.

Description: This revenue procedure requires the collection of certain information in order for the taxpayer to gain relief for late shareholder consents for Subchapter S elections. The information is designed to make sure that applications for relief meet the requirements set out in the revenue procedure.

Respondents: Businesses and other for-profits.

Estimated Total Burden Hours: 500 hours.

OMB Number: 1545-1243.

Type of Review: Revision.

Title: PS-163-84 (Final) Treatment of Transactions between Partners and Partnerships.

Description: Section 707(a)(2) provides that if there is a transfer of money or property by a partner to a partnership, the transfer will be treated, in certain situations, as a disguised sale between the partner and the partnership. The regulations provide that the partner or the partnership should disclose the transfers and certain attendant facts in some situations.

Respondents: Businesses and other for-profits.

Estimated Total Burden Hours: 2,500 hours.

OMB Number: 1545-1051.

Type of Review: Extension.

Title: INTL-29-91 (Final) Computation and Characterization of Income and Earnings and Profits under the Dollar Approximate Separate Transactions Method of Accounting (DASTM).

Description: For taxable years after the final regulations are effective, taxpayers operating in hyperinflationary currencies must use the U.S. dollar as their functional currency and compute income using the dollar approximate separate transactions method (DASTM). Small taxpayers may elect an alternate method by which to compute income or loss. For prior taxable years in which income was computed using the profit and loss method, taxpayers may elect to re-compute their income using DASTM.

Respondents: Businesses or other for-profits.

Estimated Total Burden Hours: 1,000 hours.

OMB Number: 1545-0245.

Type of Review: Extension.

Title: Environmental Taxes.

Form: 6627.

Description: Form 6627 is used to figure the environmental tax on ozone-depleting chemicals (ODCS), imported products that used ODCs as materials in the manufacture or production of the product, and the floor stocks tax ODCs. Sections 4681 and 4682 impose a tax on ODCs and imported products containing ODCs.

Respondents: Businesses and other for-profits.

Estimated Total Burden Hours: 8,006 hours.

Clearance Officer, Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. 07-4099 Filed 8-21-07; 8:45 am]

BILLING CODE 4830-01-M